DEPARTMENT OF HEALTH AND HUMAN SERVICES

Centers for Disease Control and Prevention

Disease, Disability, and Injury Prevention and Control Special Emphasis Panel (SEP): The Incidence and Etiology of Influenza-Associated Pneumonia in Hospitalized Persons and Virologic Evaluation of the Modes of Influenza Virus Transmission Among Humans, Funding Opportunity Announcement (FOA) IP09-001 and IP09-003

In accordance with Section 10(a)(2) of the Federal Advisory Committee Act (Pub. L. 92-463), the Centers for Disease Control and Prevention (CDC) announces the aforementioned meeting.

Time and Date: 8 a.m.-5 p.m., April 6, 2009 (Closed).

Place: Sheraton Gateway Hotel Atlanta Airport, 1900 Sullivan Road, Atlanta, Georgia 30337.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “The Incidence and Etiology of Influenza-Associated Pneumonia in Hospitalized Persons and Virologic Evaluation of the Modes of Influenza Virus Transmission Among Humans, FOA IP09-001 and IP09-003.”

Contact Person for More Information: Gregory Anderson, M.S., M.P.H., Office of the Director, Coordinating Center for Infectious Diseases, CDC, 1600 Clifton Road, Mailstop E-60, Atlanta, GA 30333, Telephone: (404) 498-2275.

The Director, Management Analysis and Services Office, has been delegated the authority to sign Federal Register notices pertaining to announcements of meetings and other committee management activities, for both CDC and the Agency for Toxic Substances and Disease Registry.

Dated: March 13, 2009.
Elaine L. Baker,
Director, Management Analysis and Services Office, Centers for Disease Control and Prevention.

[FR Doc. E9-6047 Filed 3-18-09; 8:45 am]

BILLING CODE 4163-18-P